Title 3—

The President

Proclamation 9832 of December 7, 2018

Human Rights Day, Bill of Rights Day, and Human Rights Week, 2018

By the President of the United States of America

A Proclamation

Our Nation was founded on the idea that our Creator endows each individual with certain unalienable rights. In the Declaration of Independence, Thomas Jefferson identified life, liberty, and the pursuit of happiness as among these fundamental human rights. Our Nation has enshrined these and other rights, which Americans continue to enjoy today, in the Bill of Rights.

On Bill of Rights Day, we recognize the key role of the Bill of Rights in protecting our individual liberties and limiting the power of government. The Founding Fathers understood the real threat government can pose to the rights of the people. James Madison, who introduced the Bill of Rights in the Congress, stated that the “essence of Government is power; and power, lodged as it must be, in human hands, will ever be liable to abuse.” That is why those first 10 Amendments to the Constitution, among others, protected the right to speak freely, the right to freely worship, the right to keep and bear arms, the right to be free from unreasonable searches and seizures, and the right to due process of law. As a part of the Constitution, the supreme law of the land, the Bill of Rights has protected our rights effectively against the abuse of government power for 227 years.

The Bill of Rights has served as a model for other countries in helping them develop their own safeguards for fundamental human rights. Seventy years ago, on December 10, 1948, as the world was emerging from the catastrophic destruction of World War II, the Bill of Rights inspired the United Nations General Assembly to adopt the Universal Declaration of Human Rights. Similar to the Bill of Rights, the Universal Declaration of Human Rights enumerates many basic rights that are essential to preserving the dignity and liberty of all people. Today, the United States continues to respect the sovereign right of each country to chart its own social, economic, and cultural advancement. We also, however, recognize the universal truth that those countries that strive to honor and defend human rights are more likely to achieve long-term, sustainable prosperity and peace.

During Human Rights Day, Bill of Rights Day, and Human Rights Week, we vow to fiercely protect the eternal flame of liberty. Since there will always be a temptation for government to abuse its power, we reaffirm our commitment to defend the Bill of Rights and uphold the Constitution. We also remember all those around the world whose God-given rights have been violated and disregarded by authoritarian regimes, and we express our desire for the rule of law and liberty to one day triumph over all forms of oppression.

NOW, THEREFORE, I, DONALD J. TRUMP, President of the United States of America, by virtue of the authority vested in me by the Constitution and the laws of the United States, do hereby proclaim December 10, 2018, as Human Rights Day; December 15, 2018, as Bill of Rights Day; and the week beginning December 9, 2018, as Human Rights Week. I call upon the people of the United States to mark these observances with appropriate ceremonies and activities.

IN WITNESS WHEREOF, I have hereunto set my hand this seventh day of December, in the year of our Lord two thousand eighteen, and of the Independence of the United States of America the two hundred and forty-third.

[FR Doc. 2018-27096

Filed 12-11-18; 11:15 am]

Billing code 3295-F9-P